DEPARTMENT OF TRANSPORTATION

Federal Aviation Administration

14 CFR Part 39

[Docket No. FAA-2013-0984; Directorate Identifier 2013-SW-022-AD; Amendment 39-17859; AD 2014-11-08]

RIN 2120-AA64

Airworthiness Directives; Airbus Helicopters (Previously Eurocopter France) (Airbus Helicopters) Helicopters

AGENCY: Federal Aviation Administration (FAA), DOT.

ACTION: Final rule.

SUMMARY: We are adopting a new airworthiness directive (AD) for Airbus Helicopters Model EC225LP helicopters to require measuring the operating load of the cockpit fuel shut-off controls and replacing the tangential gearbox if the operating load threshold is exceeded. This AD was prompted by the jamming of the left-hand (LH) side of the fuel shut-off and general cut-off controls (controls). The actions of this AD are intended to prevent the jamming of the controls so that a pilot can shut down an engine during an engine fire or during an emergency landing.

DATES: This AD is effective July 8, 2014.

ADDRESSES: For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Discussion

On November 25, 2013, at 78 FR 70242, the Federal Register published our notice of proposed rulemaking (NPRM), which proposed to amend 14 CFR part 39 by adding an AD that would apply to Eurocopter France (now Airbus Helicopters) Model EC225LP helicopters with a tangential gearbox, part number 200181 or 704A34112012. The NPRM proposed to require measuring the operating load of the cockpit fuel shut-off controls and replacing the tangential gearbox if the operating load threshold is exceeded. The proposed requirements were intended to prevent the jamming of the controls so that a pilot can shut down an engine during an engine fire or during an emergency landing.

The NPRM was prompted by AD No. 2013-0098-E, dated April 24, 2013, issued by EASA, which is the Technical Agent for the Member States of the European Union, to correct an unsafe condition for Eurocopter France (now Airbus Helicopters) Model EC 225 LP helicopters. EASA advises that during maintenance on a helicopter, the LH side of the cockpit's emergency shutdown controls were reported jammed, making it impossible to operate the LH fuel shut-off and the general cut-out handles. EASA states that this condition could lead to failure to manually operate the emergency shutdown controls during an emergency landing or fire. To address this unsafe condition, EASA AD No. 2013-0098-E requires an operating load check of the two cockpit fuel shut-off handles and, depending on findings, lubrication and/or replacement of the two tangential gearboxes.

Since we issued the NPRM, Eurocopter France changed its name to Airbus Helicopters, Inc. This AD reflects that change and updates the contact information to obtain service documentation.

Comments

We gave the public the opportunity to participate in developing this AD, but we received no comments on the NPRM (78 FR 70242, November 25, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed except for the minor changes previously described. These changes are consistent with the intent of the proposals in the NPRM (78 FR 70242, November 25, 2013) and will not increase the economic burden on any operator nor increase the scope of this AD.

Differences Between This AD and the EASA AD

The EASA AD requires differing compliance times based on when the helicopter's original Certificate of Airworthiness or Export Certificate of Airworthiness was issued. This AD makes no distinction regarding compliance times because there are only 4 affected aircraft on the U.S. registry.

Related Service Information

Eurocopter issued Emergency Alert Service Bulletin No. 76A001, Revision 0, dated April 22, 2013, for the Model EC225LP civil helicopter and the Model EC725AP military helicopter to notify its operators that during a scheduled inspection of the fuel shut-off controls, a mechanic noticed that one of the shut-off controls jammed. This jamming made maneuvering the fuel shut-off and the general cut-out controls impossible. After an investigation, Eurocopter determined that the jamming originated in the tangential gearbox installed on this control. Traces of corrosion were observed on the internal bearings of the LH tangential gearbox, Eurocopter reported. The jamming of the fuel cut-off control prevents the engine input fuel valve and the engine compartment ventilation flap from closing and prevents the activation of the general cut-out control.

Eurocopter consequently called for a mandatory “check” of the fuel shut-off valve maneuvering loads, lubricating the tangential gearbox bearings, and depending on the load measurement, replacing the tangential gearbox.

Costs of Compliance

We estimate that this AD affects 4 helicopters of U.S. Registry and that labor costs average $85 a work-hour. Based on these estimates, we expect the following costs:

• Measuring the operating load of the two cockpit fuel shut-off controls require .25 work-hours for a labor cost of about $21, or $84 for the U.S. fleet. No parts are needed.

• Lubricating the tangential gearbox requires 4 work-hours. The cost of consumable materials is minimal for a total cost of $340 per helicopter.

• Replacing the tangential gearbox requires 4 work-hours for a labor cost of $340. Parts cost $4,943 for a total cost of $5,283 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-11-08 Airbus Helicopters (Previously Eurocopter France): Amendment 39-17859; Docket No. FAA-2013-0984; Directorate Identifier 2013-SW-012-AD.

(a) Applicability

This AD applies to Model EC225LP helicopters with a tangential gearbox, part number (P/N) 200181 or 704A34112012, installed, certificated in any category.

(b) Unsafe Condition

This AD defines the unsafe condition as the jamming of the fuel shut-off and the general cut-off controls. This condition could prevent a pilot from shutting down an engine during an engine fire or emergency landing.

(c) Effective Date

This AD becomes effective July 8, 2014.

(d) Compliance

You are responsible for performing each action required by this AD within the specified compliance time unless it has already been accomplished prior to that time.

(e) Required Actions

(1) Within 15 hours time-in-service or 7 days, whichever occurs first, measure the operating load of each cockpit fuel shut-off control.

(i) If the operating load is more than 3 daN (6.74 ft-lb), before further flight, lubricate each tangential gearbox and measure the operating load of each cockpit fuel shut-off control.

(ii) If the operating load is less than or equal to 3 daN (6.74 ft-lb), within 6 months, lubricate each tangential gearbox and measure the operating load of each cockpit fuel shut-off control.

(iii) If the operating load is more than 3 daN (6.74 ft-lb) after lubricating the tangential gearbox, replace the affected tangential gearbox before the next flight.

(2) Before installing a tangential gearbox, P/N 200181 or 704A34112012, lubricate the upper and lower bearings.

(f) Alternative Methods of Compliance (AMOCs)

(1) The Manager, Safety Management Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter Emergency Alert Service Bulletin No. 76A001, Revision 0, dated April 22, 2013, which is not incorporated by reference, contains additional information about the subject of this AD. For service information, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

(2) The subject of this AD is addressed in European Aviation Safety Agency (EASA) AD No. 2013-0098-E, dated April 24, 2013. You may view the EASA AD on the Internet at http://www.regulations.gov in Docket No. FAA-2013-0984.

(h) Subject

Joint Aircraft Service Component (JASC) Code: Engine Controls, 7600.

Issued in Fort Worth, Texas, on May 21, 2014.
Lance T. Gant,
Acting Directorate Manager, Rotorcraft Directorate, Aircraft Certification Service.

[FR Doc. 2014-12717 Filed 6-2-14; 8:45 am]

BILLING CODE 4910-13-P